ENVIRONMENTAL PROTECTION AGENCY

[EPA-HQ-OECA-2012-0658; FRL-9530-9]

Agency Information Collection Activities; Submission to OMB for Review and Approval; Comment Request; NSPS/NESHAP for Wool Fiberglass Insulation Manufacturing Plants (Renewal)

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR which is abstracted below describes the nature of the collection and the estimated burden and cost.

DATES: Additional comments may be submitted on or before June 7, 2013.

ADDRESSES: Submit your comments, referencing docket ID number EPA-HQ-OECA-2012-0658, to: (1) EPA online, using www.regulations.gov (our preferred method), or by email to: docket.oeca@epa.gov, or by mail to: EPA Docket Center (EPA/DC), Environmental Protection Agency, Enforcement and Compliance Docket and Information Center, mail code 28221T, 1200 Pennsylvania Avenue NW., Washington, DC 20460; and (2) OMB at: Office of Information and Regulatory Affairs, Office of Management and Budget (OMB), Attention: Desk Officer for EPA, 725 17th Street NW., Washington, DC 20503.

FOR FURTHER INFORMATION CONTACT: Learia Williams, Monitoring, Assistance, and Media Programs Division, Office of Compliance, Mail Code 2227A, Environmental Protection Agency, 1200 Pennsylvania Avenue NW., Washington, DC 20460; telephone number: (202) 564-4113; fax number: (202) 564-0050; email address: williams.learia@epa.gov.

SUPPLEMENTARY INFORMATION: EPA has submitted the following ICR to OMB for review and approval according to the procedures prescribed in 5 CFR 1320.12. On October 17, 2012 (77 FR 63813), EPA sought comments on this ICR pursuant to 5 CFR 1320.8(d). EPA received no comments. Any additional comments on this ICR should be submitted to both EPA and OMB within 30 days of this notice.

EPA has established a public docket for this ICR under docket ID number EPA-HQ-OECA-2012-0658, which is available for either public viewing online at http://www.regulations.gov, or in person viewing at the Enforcement and Compliance Docket in the EPA Docket Center (EPA/DC), EPA West, Room 3334, 1301 Constitution Avenue NW., Washington, DC. The EPA Docket Center Public Reading Room is open from 8:30 a.m. to 4:30 p.m., Monday through Friday, excluding legal holidays. The telephone number for the Reading Room is (202) 566-1744, and the telephone number for the Enforcement and Compliance Docket is (202) 566-1752.

Use EPA's electronic docket and comment system at http://www.regulations.gov to either submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, Confidentiality of Business Information (CBI), or other information whose public disclosure is restricted by statute. For further information about the electronic docket, go to www.regulations.gov.

Title: NSPS/NESHAP for Wool Fiberglass Insulation Manufacturing Plants (Renewal).

ICR Numbers: EPA ICR Number 1160.12, OMB Control Number 2060-0114.

ICR Status: This ICR is scheduled to expire on June 30, 2013. Under OMB regulations, the Agency may continue to conduct or sponsor the collection of information while this submission is pending at OMB.

Abstract: The affected entities are subject to the General Provisions of the NSPS/NESHAP at 40 CFR part 60, subpart A and part 63, subpart A, and any changes, or additions to the Provisions specified at 40 CFR part 60, subpart PPP and part 63, subpart NNN.

Owners or operators of the affected facilities must submit an initial notification report, performance tests, and periodic reports and results. Owners or operators are also required to maintain records of the occurrence and duration of any startup, shutdown, or malfunction in the operation of an affected facility, or any period during which the monitoring system is inoperative. Reports are required annually at a minimum.

Respondents/Affected Entities: Owners or operators of wool fiberglass manufacturing facilities.

Estimated Number of Respondents: 61

Frequency of Response: Occasionally and semiannually

Estimated Total Annual Hour Burden: 18,559

Estimated Total Annual Cost: $2,285,560, which includes $1,797,060 in labor costs, no capital/startup costs, and $488,500 in operation and maintenance (O&M) costs.

Changes in the Estimates: There is no change in the labor hours in this ICR compared to the pervious ICR. This is due to two considerations: (1) The regulations have not changed over the past three years; and (2) the growth rate for the industry is very low, negative or non-existent, so there is no significant change in the overall burden. However, there is an adjustment increase in the total estimated labor costs. The change in cost estimates occurred because the labor rates have increased since the last ICR. This ICR used the most recent labor rates in calculating all burden costs.

Additionally, the annual public reporting and recordkeeping burden for this collection of information has increased from 103 hours per response to 145 hours per response (41 hours per response for 40 CFR part 60, subpart PPP, and 249 hours per response for 40 CFR part 63, subpart NNN). This is due to a correction in the total number of annual responses. The total number of annual responses decreased from 180 to 128. To calculate the number of responses, the previous ICR assumed that all 29 sources subject to subpart NNN were required to submit Startup, Shutdown, and Malfunction (SSM) reports semiannually. This method was inconsistent with the burden calculations for Tables 1a and 1b, which assumed only 10% of all sources submit such reports. This ICR corrected the number of sources for submitting SSM reports, which results in a decrease in the number of responses for subpart NNN.

John Moses,
Director, Collection Strategies Division.

[FR Doc. 2013-10885 Filed 5-7-13; 8:45 am]

BILLING CODE 6560-50-P